DEPARTMENT OF COMMERCE

National Oceanic and Atmospheric Administration

RIN: 0648-XW32

Fisheries of the South Atlantic and Gulf of Mexico; Southeast Data, Assessment, and Review (SEDAR); Public Meetings

AGENCY: National Marine Fisheries Service (NMFS), National Oceanic and Atmospheric Administration (NOAA), Commerce.

ACTION: Notice of SEDAR 24 South Atlantic red snapper assessment webinars 1 and 2.

SUMMARY: The SEDAR 24 assessment of the South Atlantic stock of red snapper will consist of a series of workshops and webinars: a Data Workshop, a series of Assessment webinars, and a Review Workshop. See SUPPLEMENTARY INFORMATION.

DATES: SEDAR 24 Assessment Process webinar 1 will be held on Friday, June 18, from 10 a.m. to 1 p.m. (EDT). SEDAR 24 Assessment Process webinar 2 will be held on Wednesday, July 14, from 12 p.m. to 4 p.m. (EDT).

ADDRESSES: The meeting will be held via webinar. The webinar is open to members of the public. Those interested in participating should contact Dale Theiling at SEDAR (See FOR FURTHER INFORMATION CONTACT) to request an invitation providing webinar access information.

FOR FURTHER INFORMATION CONTACT: Dale Theiling, SEDAR Coordinator, 4055 Faber Place, Suite 201, North Charleston, SC 29405; telephone: (843) 571-4366; e-mail: Dale.Theiling@safmc.net

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR is a three-step process including: (1) Data Workshop, (2) Assessment Process utilizing webinars and (3) Review Workshop. The product of the Data Workshop is a data report which compiles and evaluates potential datasets and recommends which datasets are appropriate for assessment analyses. The product of the Assessment Process is a stock assessment report which describes the fisheries, evaluates the status of the stock, estimates biological benchmarks, projects future population conditions, and recommends research and monitoring needs. The assessment is independently peer reviewed at the Review Workshop. The product of the Review Workshop is a Summary documenting Panel opinions regarding the strengths and weaknesses of the stock assessment and input data. Participants for SEDAR Workshops are appointed by the Gulf of Mexico, South Atlantic, and Caribbean Fishery Management Councils and NOAA Fisheries Southeast Regional Office and Southeast Fisheries Science Center. Participants include data collectors and database managers; stock assessment scientists, biologists, and researchers; constituency representatives including fishermen, environmentalists, and NGO's; International experts; and staff of Councils, Commissions, and state and federal agencies.

SEDAR 24 Assessment webinar 1:

Participants will discuss data issues, availability, and appropriate modeling approaches. Guidance will be provided to the analytical team to enable development of preliminary runs of candidate models. Tasks, workload, and scheduling issues will be discussed.

Meeting Schedule:

Friday, June 18, 2010, from 10 a.m. to 1 p.m. (EDT)

SEDAR 24 Assessment webinar 2:

Emerging data issues will be discussed and preliminary model runs reviewed. Participants will provide further model configuration guidance and select a preferred technique.

Meeting Schedule:

Wednesday July 14, 2010, from 12 p.m. to 4 p.m. (EDT)

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) at least 10 business days prior to the meeting.

Dated: May 3, 2010.
Tracey L. Thompson,
Acting Director, Office of Sustainable Fisheries, National Marine Fisheries Service.

[FR Doc. 2010-10726 Filed 5-6-10; 8:45 am]

BILLING CODE 3510-22-S